DEPARTMENT OF HEALTH AND HUMAN SERVICES

Agency for Healthcare Research and Quality

Meeting of the National Advisory Council for Healthcare Research and Quality Subcommittee on Quality Measures for Children's Healthcare in Medicaid and Children's Health Insurance Programs (CHIP)

AGENCY: Agency for Healthcare Research and Quality (AHRQ), Department of Health and Human Services.

ACTION: Notice of public meeting.

SUMMARY: In accordance with section 10(a) of the Federal Advisory Committee Act, 5 U.S.C. App. 2, this notice announces a meeting of the National Advisory Council for Healthcare Research and Quality Subcommittee on Quality Measures for Children's Healthcare in Medicaid and Children's Health Insurance Programs (CHIP).

DATES: The meeting will be held on Wednesday, July 22, 2009, from 10 a.m. to 5 p.m. and Thursday, July 23, 2009 from 9 a.m. to 5 p.m.

ADDRESSES: Holiday Inn Capitol, 550 C Street, SW., Washington, DC 20024.

FOR FURTHER INFORMATION CONTACT: Padmini Jagadish, Public Health Analyst at the Agency for Healthcare Research and Quality, 540 Gaither Road, Rockville, Maryland 20850, (301) 427-1927. For press-related information, please contact Karen Migdail at (301) 427-1855.

If sign language interpretation or other reasonable accommodation for a disability is needed, please contact Mr. Michael Chew, Director, Office of Equal Employment Opportunity Program, Program Support Center, on (301) 443-1144, no later than July 3, 2009.

SUPPLEMENTARY INFORMATION:

I. Purpose

The National Advisory Council for Healthcare Research and Quality was established in accordance with section 921 (now section 931) of the Public Health Service Act, 42 U.S.C. 299c. In accordance with its statutory mandate, the Council is to advise the Secretary of the Department of Health and Human Services and the Director, Agency for Healthcare Research and Quality (AHRQ), on matters related to actions of AHRQ to enhance the quality, and improve the outcomes of health care services; improve access to such services through scientific research; and promote improvements in clinical practice and in the organization, financing, and delivery of health care services. The Council is composed of members of the public, appointed by the Secretary, and Federal ex-officio members.

AHRQ's National Advisory Council on Healthcare Research and Quality (NAC) has established a Subcommittee on Quality Measures for Children's Healthcare in Medicaid and Children's Health Insurance Programs (CHIP). The Subcommittee was created to provide advice to the NAC for consideration and transmission to AHRQ as AHRQ undertakes responsibilities in the identification of an initial core quality measure set for use by Medicaid and CHIP programs for children's healthcare.

The identification of an initial core measure set for public comment is required under Public Law 111-3, the Child Health Insurance Program Reauthorization Act (CHIPRA). The initial core measure set is required to be posted for public comment by January 1, 2010. CHIPRA reauthorized the Child Health Insurance Program (CHIP) originally established in 1997, and added a number of new provisions designed to improve health care quality and outcomes for children in Title IV of the law. AHRQ is working closely with the Centers for Medicare and Medicaid Services (CMS) in implementing these provisions. For more information about AHRQ's role in carrying out the quality provisions of CHIPRA, see http://www.ahrq.gov/chip/chipraact.htm. This Web site will link to an e-mail address that can be used to submit comments on CHIPRA quality measure development as the process of identifying the initial core measure set proceeds.

II. Agenda

On Wednesday, July 22, 2009, the Subcommittee meeting will convene at 10 a.m., with the call to order by the Subcommittee Co-Chairs. The AHRQ Director or her designee will present an update on pertinent AHRQ activities with respect to health care quality-related efforts and research and projects of interest with respect to pediatric health care.

A draft agenda and roster of subcommittee members will be available before the meeting from Padmini Jagadish, Agency for Healthcare Research and Quality, 540 Gaither Road, Rockville, Maryland 20850, (301) 427-1927, e-mail address Padmini.Jagadish@ahrq.hhs.gov. The final agenda, including the time for public comment during the meeting, will be available on the AHRQ Web site at http://www.ahrq.gov/chip/chipraact.htm no later than July 20, 2009. Minutes will be available within 5 business days after the meeting.

Dated: June 22, 2009.
Carolyn M. Clancy,
Director.

[FR Doc. E9-15091 Filed 6-29-09; 8:45 am]

BILLING CODE 4160-90-P